DEPARTMENT OF ENERGY

Federal Energy Regulatory Commission

[Project No. 2628-066]

Alabama Power Company; Notice of Intent To Prepare an Environmental Impact Statement

On November 23, 2021, Alabama Power Company filed an application for a new major license to operate its 137.5-megawatt (MW) ¹ R.L. Harris Hydroelectric Project (Harris Project; FERC No. 2628). The project is located on the Tallapoosa River near the City of Lineville in Randolph, Clay, and Cleburne Counties, Alabama. The Harris Project also includes land within the James D. Martin-Skyline Wildlife Management Area located approximately 110 miles north of Harris Lake in Jackson County, Alabama. The project occupies 4.90 acres of federal land administered by the Bureau of Land Management.

¹ This capacity includes a proposed 2.5-MW increase in generation that would be provided through a new minimum flow unit.

On July 31, 2018, Commission staff issued Scoping Document 1, initiating the scoping process for the project in accordance with the National Environmental Policy Act (NEPA) and Commission regulations. On November 16, 2018, Commission staff issued a revised scoping document (Scoping Document 2). In accordance with the Commission's regulations, on January 17, 2023, Commission staff issued a notice that the project was ready for environmental analysis (REA Notice). Based on the information in the record, including comments filed during scoping and in response to the REA Notice, staff has determined that relicensing the project may constitute a major federal action significantly affecting the quality of the human environment. Therefore, staff intends to prepare an Environmental Impact Statement (EIS) for the Harris Project.

A draft EIS will be issued and circulated for review by all interested parties. All comments filed in response to the REA notice, and on the draft EIS will be analyzed by staff in a final EIS. The staff's conclusions and recommendations will be available for the Commission's consideration in reaching its final licensing decision.

The application will be processed according to the following schedule. Revisions to the schedule may be made as appropriate.

Milestone | Target date
Issue draft EIS | September 2023.
Draft EIS Public Meeting | October 2023.
Comments on draft EIS due | November 2023.
Commission issues final EIS | April 2024.²

Any questions regarding this notice may be directed to Sarah Salazar at (202) 502-6863 or sarah.salazar@ferc.gov.

² The Council on Environmental Quality's (CEQ) regulations under 40 CFR 1501.10(b)(2) require that a Record of Decision be completed within 2 years of the federal action agency's decision to prepare an EIS. This notice establishes the Commission's intent to prepare a draft and final EIS for the Harris Project. Therefore, in accordance with CEQ's regulations, the Commission must reach a licensing decision within 2 years of the issuance date of this notice.

Dated: March 31, 2023.
Kimberly D. Bose,
Secretary.

[FR Doc. 2023-07207 Filed 4-5-23; 8:45 am]

BILLING CODE 6717-01-P